DEPARTMENT OF ENERGY

Federal Energy Regulatory Commission

[Docket No. RP02-151-003]

Gulf South Pipeline Company, LP; Notice of Compliance Filing

June 20, 2002.

Take notice that on June 18, 2002, Gulf South Pipeline Company, LP (Gulf South) tendered for filing as part of its FERC Gas Tariff, Sixth Revised Volume No. 1, the following tariff sheet, to become effective February 25, 2002.

Second Sub. Second Revised Sheet No. 306

Gulf South states that the above tariff sheet has been filed to comply with the Order issued June 3, 2002, 99 FERC ¶61,256. The Commission directed Gulf South to provide that the effective date of a contract demand reduction to be the latter of the effective date of the bypass or the end of the 60-day notice period. The compliance filing incorporates this change.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-16126 Filed 6-25-02; 8:45 am]

BILLING CODE 6717-01-P